DEPARTMENT OF DEFENSE

Department of the Navy

Record of Decision (ROD) for the United States Marine Corps Santa Margarita River Conjunctive Use Project (SMR CUP) at Marine Corps Base (MCB) Camp Pendleton, California

AGENCIES: Bureau of Reclamation (Reclamation), Department of the Navy (DoN).

ACTION: Record of Decision.

SUMMARY: The Department of the Navy (DoN), after carefully considering the environmental consequences of the proposed action, announces its decision to implement a project for the conjunctive use of surface water and groundwater within the Lower Santa Margarita River (SMR) Basin. The DoN has selected the preferred alternative as identified in the 2016 Final Environmental Impact Statement (EIS)/Environmental Impact Report (EIR). This alternative consists of construction and operation of new facilities for adaptive management of surface water and groundwater resources that would be achieved through the enhanced diversion of SMR surface waters to groundwater recharge ponds and the active use of groundwater aquifers for water storage. The proposed action would resolve the water rights disputes between the United States (on behalf of the Marine Corps) and Fallbrook Public Utility District (FPUD) and satisfy the United States District Court for the Southern District of California order to find a “physical solution” to the ongoing litigation in United States v. Fallbrook Public Utility District, et al. The Proposed Action would also efficiently meet the long-term water demands of Marine Corps Installations (MCI) West-MCB Camp Pendleton and FPUD, reduce FPUD's dependence on imported water, maintain watershed resources, and improve water supply reliability by managing the yield of the Lower SMR Basin. The DoN and Reclamation are the designated co-lead agencies for review of this project under the National Environmental Policy Act (NEPA), and FPUD is the designated lead agency for review of this project under the California Environmental Quality Act (CEQA) in the preparation of the joint EIS/EIR.

This ROD documents why the DoN has chosen to implement the preferred alternative as described in the 2016 Final EIS/EIR. The ROD includes descriptions and discussions of the anticipated environmental impacts of the proposed action as well as all practical means to avoid or minimize environmental impacts from the selected alternative. It also includes descriptions and discussions of all related actions and their anticipated impacts.

FOR FURTHER INFORMATION CONTACT: SMR CUP EIS Project Manager, Commanding General, Marine Corps Installations West-Marine Corps Base Camp Pendleton, CA 92055-5010, Attn: Environmental Security, 760-725-1721.

SUPPLEMENTARY INFORMATION: Pursuant to Section 102(2)(c) of the NEPA of 1969, 42 United States Code (U.S.C.) § 4332(2)(c), as implemented by the Council on Environmental Quality (CEQ) Regulations at 40 Code of Federal Regulations (CFR) Parts 1500-1508; DoN NEPA regulations (32 CFR part 775); and the United States Marine Corps Environmental Compliance and Protection Manual (Marine Corps Order P5090.2A, Change 3), the DoN announces its decision to implement the SMR CUP at MCB Camp Pendleton, California as described in Alternative 1 of the 2016 Final EIS/EIR.

In addition to NEPA and other environmental laws, the DoN considered applicable executive orders (EO), including the requirements of EO 12898, Federal Actions to Address Environmental Justice in Minority Populations and Low Income Populations; EO 13045, Environmental Health Risk and Safety Risks to Children; EO 11990, Protection of Wetlands; and EO 11988, Floodplain Management.

Purpose and Need: The purpose of the proposed action is to resolve the water rights dispute between the United States and FPUD and satisfy the United States District Court for the Southern District of California order to find a “physical solution” to the ongoing litigation in United States v. Fallbrook Public Utility District, et al. The proposed action is needed to upgrade/develop infrastructure and cooperative water management processes that satisfy MCI West-MCB Camp Pendleton and FPUD's respective current and future water requirements.

MCB Camp Pendleton and FPUD entered into a Memorandum of Understanding in 2001 agreeing to jointly participate in the project in good faith and with full cooperation. MCB Camp Pendleton, Reclamation, and FPUD signed a Conceptual Points of Agreement in January 2011.

Public Involvement: NEPA and CEQA regulations require an early and open process for determining the scope of issues related to a Proposed Action or project. In accordance with NEPA and CEQA, DoN, Reclamation, and FPUD initiated a public and agency scoping process to assist in determining the range of issues to be addressed in the EIS/EIR. A Notice of Intent was issued in November 2004 and a public scoping meeting was held in January 2005.

The range of issues analyzed in the EIS/EIR was determined from the initial DoN, Reclamation, and FPUD evaluation of the action alternatives, as well as, comments received during the public scoping process and written and verbal comments received during the 2010 public review period for the California State Water Resources Control Board water right permit extension petitions.

A Notice of Availability/Notice of Completion for the Draft EIS/EIR was published in the Federal Register on May 9, 2014, and a Notice of Completion was provided to the California State Clearinghouse on May 9, 2014 to initiate a 45-day public review of the Draft EIS/EIR. A public meeting was held on May 29, 2014 at the FPUD, and the public review period for the Draft EIS/EIR concluded on July 10, 2014. Written and verbal comments on the Draft EIS/EIR were provided by the United States Environmental Protection Agency (USEPA) and FPUD Board members, respectively.

The Final EIS/EIR was published in the Federal Register on October 14, 2016; written comments were received from the USEPA on November 14, 2016 and are being addressed through the consultation process with the United States Army Corps of Engineers (USACE) and completion and implementation of the Adaptive Management Plan/Facilities Operating Plan (AMP/FOP).

Alternatives Considered: The DoN identified and evaluated a reasonable range of alternatives that consisted of two action alternatives and a no action alternative. The following provides a description of the two action alternatives:

Alternative 1

This alternative would include diversion system upgrades, groundwater recharge, and groundwater production. Raw groundwater would be pumped from the aquifer and conveyed to the Haybarn Canyon area on MCB Camp Pendleton. The water delivered to Haybarn Canyon would then be diverted to either MCB Camp Pendleton's existing Haybarn Canyon Advanced Water Treatment Plant (AWTP), or to a new FPUD water treatment plant (WTP) via a new bi-directional pipeline. The bi-directional pipeline between FPUD and MCB Camp Pendleton would also allow imported water to be delivered from FPUD to MCB Camp Pendleton during drier than normal periods when local groundwater is insufficient to meet demands or during emergency conditions.

Improvements to Existing Facilities

Replacement of Existing Sheet Pile Diversion with Inflatable Weir Diversion Structure. The existing sheet pile diversion structure on the SMR (within MCB Camp Pendleton) would be replaced with an inflatable weir diversion structure. The inflatable weir diversion structure would extend for up to one foot (ft) (0.3 meter [m]) higher than the existing diversion structure to allow for the proposed increase in the amount of water to be diverted from the SMR into O'Neill Ditch from the current 60 cubic feet per second (cfs) to a maximum of 200 cfs. Water diverted from the SMR would flow to the aquifer recharge ponds, be stored in Lake O'Neill, or bypassed back to the SMR.

The inflatable weir gates would be operated based on the operation plan outlined in the AMP/FOP guidelines and procedures as described below. During large streamflow events (i.e., 10-year event and greater), however, the inflatable weir would be fully lowered to allow floodwaters, sediment, and debris to pass downstream without adversely affecting water diversion facilities.

Improvements to O'Neill Ditch and Headgate. The headgate (i.e., a gate for controlling the flow of water into a ditch) and O'Neill Ditch would be modified to increase the capacity from 60 cfs to 200 cfs to accommodate the maximum amount of water to be diverted under the project design. Operation of the headgate and O'Neill Ditch would be based on the operation plan outlined in the AMP/FOP guidelines and procedures as described below.

Improvements to Recharge Ponds 1-7. The overall performance of the existing MCB Camp Pendleton Recharge Ponds 1-7 is currently reduced by operational inefficiencies related to lack of water level control and the inability to measure flow between ponds. Proposed improvements to Recharge Ponds 1-7 include redesigning the culverts and weirs that transfer water from one pond to the next. Operation of the recharge ponds would be based on the AMP/FOP guidelines and procedures as described below.

Proposed New Facilities

Groundwater Production Wells and Associated Collection System Infrastructure. The existing groundwater production wells operated and maintained by MCI West-MCB Camp Pendleton would be augmented by the installation of four new groundwater production wells in the Upper Ysidora and Chappo sub-basins, along with appurtenant collection pipelines, power lines, and access roads. Operation of existing and new production wells would be based on AMP/FOP guidelines and procedures as described below. The pumping schedule would be designed to optimize groundwater levels during the winter to create storage in the aquifer, capture wintertime flow events, and minimize groundwater mounding at the recharge ponds. Pumping would be reduced during extremely dry years, with restricted groundwater pumping continuing until wetter hydrologic conditions occur.

Water Conveyance/Distribution, including Bi-Directional Pipeline from MCB Camp Pendleton to a new FPUD Water Treatment Plant. Raw groundwater would be pumped from the aquifer and conveyed to the Haybarn Canyon area on MCB Camp Pendleton. The water delivered to Haybarn Canyon would then be diverted to either MCB Camp Pendleton's existing Haybarn Canyon AWTP, or to the new FPUD WTP via a new bi-directional pipeline. The bi-directional pipeline between FPUD and MCB Camp Pendleton would also allow imported water to be delivered from FPUD to MCB Camp Pendleton during drier than normal periods when local groundwater is insufficient to meet demands or during emergency conditions.

MCB Camp Pendleton would continue to process water for its own use at the existing Haybarn Canyon AWTP and FPUD would treat its portion of the project water at a new FPUD WTP (see detailed description below). Raw groundwater delivered to FPUD would average 3,100 acre-feet per year (afy) and would not exceed 800 acre-feet (af) in any given month.

However, total volumes of raw water deliveries to FPUD would vary annually dependent upon multiple factors including, but not limited to, precipitation, river surface flows, surface diversions, and environmental considerations.

FPUD WTP. A new FPUD WTP would be constructed on FPUD property adjacent to the existing FPUD WTP. The new FPUD WTP would be designed to provide potable water and would include an iron and manganese removal and demineralization facility. The new FPUD WTP would have the capacity to treat a maximum of 800 af per month, equivalent to up to 8.4 million gallons per day, although it would remain subject to the maximum 3,100 afy raw water processing limit.

Brine from the FPUD WTP would be discharged to the Pacific Ocean via FPUD's pipeline connection to the City of Oceanside Ocean Outfall (Ocean Outfall). FPUD's existing National Pollutant Discharge Elimination System (NPDES) Permit (CA0108031) would be amended to allow for the inclusion of the additional brine from the project.

Supervisory Control and Data Acquisition (SCADA) System. Operation of a SCADA system, as included in the project, would be overseen and managed by the MCI West-MCB Camp Pendleton Facilities Maintenance Division. The spillway gates on the inflatable weir diversion structure, turnouts to the recharge ponds and Lake O'Neill, production and monitoring wells, flow measurement, and pumping plants would be designed for remote operation and/or data acquisition using the SCADA system.

Open Space Management Zone (OSMZ). A legal framework would be established by FPUD to permanently preserve 1,392 acres (563 hectares) of riparian open-space land in the City of Fallbrook that was acquired by FPUD in 1958 for water supply development purposes. Under Alternative 1, all or most of the OSMZ would be placed in conservation management to preserve open space and riparian values that currently exist on the site. Conservation approaches currently being considered by FPUD include, but are not limited to: (1) purchase and management of the OSMZ by Reclamation, MCI West-MCB Camp Pendleton, or another agency or conservation related organization; (2) continued ownership of the property by FPUD subject to a conservation easement purchased by a third party that restricts future development; or (3) management of the property as a mitigation bank by FPUD or its designee.

Adaptive Management Plan/Facilities Operation Plan (AMP/FOP). As part of the project, an AMP/FOP would be developed by MCI West-MCB Camp Pendleton to manage project diversion, recharge, production, and delivery facilities. The AMP/FOP would allow for diversions, recharge, production, and delivery to vary based on hydrologic conditions, with greater amounts of water diverted, recharged, produced, and delivered during wet years and less during drier years. The AMP/FOP would rely on near real-time and historical environmental and hydrologic data from existing and proposed gauges to determine project operations and meet delivery requirements balanced with environmental constraints. Actual field data gathered during project operations would be processed using a numerical groundwater model to determine future locations and rates of pumping that would protect environmental concerns while meeting project proponents' water requirements. The pumping schedules and proposed operations would then be published annually in a FOP that would describe how and when the inflatable weir, headgate, turnout gates, and wells are operated on a seasonal and monthly basis. The use of the AMP/FOP and its ability to rely on an alternative water supply (i.e., imported water from FPUD via a bi-directional pipeline) to meet demands on MCB Camp Pendleton would allow for increased sustained basin yield in the Lower SMR Basin. The AMP/FOP would continue to be developed, updated, and implemented by appropriate MCI West-MCB Camp Pendleton subject matter experts.

Alternative 2

Alternative 2 is similar to Alternative 1 in terms of diversion system upgrades, groundwater recharge, and groundwater production. Alternative 2 includes the following components described under Alternative 1 (see Alternative 1 description for details on each of the following components):

• Replacement of Existing Sheet Pile Diversion with Inflatable Weir Diversion Structure,

• Improvements to O'Neill Ditch and Headgate,

• Improvements to Recharge Ponds 1-7,

• Groundwater Production Wells and Associated Collection System Infrastructure,

• Bi-directional Pipeline,

• The OSMZ, and

• The SCADA system.

Alternative 2 differs from Alternative 1 in that a new surface water treatment facility located adjacent to the MCB Camp Pendleton Haybarn Canyon AWTP would treat surface water diverted from four new gallery wells installed between the recharge ponds and SMR. Treated water would be delivered to the MCB Camp Pendleton potable water distribution system and to FPUD via a bi-directional pipeline as previously discussed. The project components specific to Alternative 2 are discussed below.

Expand Haybarn Canyon AWTP and Add a Surface Water Treatment Facility at MCB Camp Pendleton. Groundwater from MCB Camp Pendleton's existing wells and SMR CUP's four new production wells would be treated at an expanded Haybarn Canyon AWTP. The expansion of MCB Camp Pendleton's existing Haybarn Canyon AWTP would occur to handle the increased Alternative 2 flow volumes. The existing Haybarn Canyon AWTP's groundwater water quality treatment goals would continue to be met under this expansion. The gallery wells would produce surface water that would be treated at the proposed new surface water treatment facility located adjacent to the existing Haybarn Canyon AWTP. The treated surface water would then be blended with the treated groundwater and distributed to MCB Camp Pendleton and FPUD.

Under Alternative 2, an additional average daily brine discharge of 3.5 cfs would be produced and discharged to the Pacific Ocean via the existing Ocean Outfall. The additional brine would be conveyed to the Ocean Outfall via the existing brine discharge pipeline constructed for MCB Camp Pendleton's Haybarn AWTP, which is connected to the Ocean Outfall via the Haybarn Canyon AWTP's connection to the Ocean Outfall Pump Station. The brine discharge would be covered under either an amendment to FPUD's existing NPDES Permit (CA0108031) to the Ocean Outfall or an amendment to MCI West-MCB Camp Pendleton NPDES Permit (CA0109347).

Gallery Wells and Associated Collection System Infrastructure. Four gallery wells would be installed adjacent to the SMR along the west side of the recharge ponds at MCB Camp Pendleton. Operation of the gallery wells would be based on AMP/FOP guidelines and procedures as described under Alternative 2 in the Final EIS/EIR.

Water Conveyance/Distribution System, including Bi-Directional Pipeline. As previously discussed, a bi-directional water conveyance pipeline would be installed between the Haybarn Canyon AWTP and FPUD's WTP. The new pipeline would have two main turnouts to provide treated water directly MCB Camp Pendleton and FPUD users. As noted in Alternative 1, the bi-directional pipeline would also allow water to be delivered to MCB Camp Pendleton during drier than normal periods when groundwater is insufficient to meet demands or emergency situations.

No Action Alternative

Under the No-Action Alternative, the water rights are not perfected, and other water development projects upstream of MCB Camp Pendleton could occur that would result in a reduction of water supply available to MCB Camp Pendleton to meet its existing and future water demands. Without implementation of a “physical solution,” the ongoing United States v. Fallbrook Public Utility District et al. litigation would not be settled. Although other alternatives may exist, they are neither feasible nor prudent. Failure to reach a physical solution may propel the parties into active litigation prone to lead to a probable court judgment not satisfactory to either party. MCB Camp Pendleton would continue to use its existing diversion, recharge, storage, and recovery system to meet its water demands. FPUD would rely solely on imported water purchased from the San Diego County Water Authority.

Existing and future water demands on MCB Camp Pendleton would be met through the use of existing facilities or from the development of more expensive alternative water supplies, such as ocean desalination or construction of a new pipeline to an off-base water purveyor and purchase of imported water. Without access to an alternative water supply through the bi-directional pipeline, groundwater level declines during extended drought periods could not be mitigated nor could MCB Camp Pendleton water demands be met during drier than normal periods or emergency conditions.

Under the No-Action Alternative, FPUD has no direct water supply benefit from the OSMZ property and no remaining justification for maintaining this property as open space. Without implementation of the SMR CUP, the OSMZ is eligible to revert to the original landowners and be developed, in which case there could be adverse impacts on wildlife, water quality, aesthetics, and other environmental values at the site and downstream. Under this alternative, the potential development of water resources by landowners could result in a reduction of available water supply to MCB Camp Pendleton and FPUD.

Although the No-Action Alternative would not meet the purpose and need for the proposed action, it is included to serve as the baseline against which impacts of the alternatives can be compared.

Preferred Alternative and Environmentally Preferable Alternative

The Final EIS/EIR identifies Alternative 1 as the Preferred Alternative. The Preferred Alternative best meets the purpose and need; has environmental impacts less than or comparable to the other action alternative (making Alternative 1 the Environmentally Preferable Alternative); and provides the most operational efficiency, construction flexibility, and cost-effectiveness of the action alternatives.

Environmental Impacts: Impacts were assessed for the following resource areas: Geological resources, water resources, biological resources, cultural resources, air quality, hazardous materials and wastes, and utilities. With the implementation of the AMP/FOP, Best Management Practices (BMPs), Special Conservation Measures (SCMs), and mitigation measures described in the Final EIS/EIR, implementation of the Preferred Alternative (Alternative 1) would have no or less than significant impacts to geological resources, water resources, biological resources, cultural resources, air quality, hazardous materials and wastes, and utilities.

Geological Resources

Significant impacts to geological resources would not occur due to project design, implementation of SCMs, and implementation of the AMP/FOP.

Water Resources

Significant impacts to water resources would not occur due to the implementation of the following mitigation measures. The AMP/FOP would include the maintenance of groundwater levels within historical range constraints; groundwater levels would be monitored by a series of telemetered groundwater monitoring wells; and pumping would be reduced or shut off if the groundwater level drops to within historic levels and remains reduced or discontinued until the average monthly groundwater levels recover to above historic levels.

Biological Resources

Significant impacts to biological resources would not occur due to the implementation of the following mitigation measures. MCB Camp Pendleton will implement the AMP/FOP and adhere to the terms and conditions of the United States Fish and Wildlife Service (USFWS) and National Oceanic and Atmospheric Administration/National Marine Fisheries Service (NMFS) Biological Opinions (BOs) for Federal threatened and endangered species and state special status species, including least Bell's vireo, southwestern willow flycatcher, arroyo toad, and southern California steelhead.

Cultural Resources

Significant impacts to cultural resources would not occur, because adverse impacts to cultural resources within the Area of Potential Effect will be avoided through construction design.

Air Quality

Significant impacts to air quality would not occur due to project design, implementation of SCMs, and implementation of the AMP/FOP.

Hazardous Materials and Waste

Significant impacts would not occur due to hazardous materials and waste, which would be managed during construction and operation in accordance with applicable Federal and state regulations. The proposed new wells have been sited so that groundwater pumping would not impact the mapped plumes associated with Installation Restoration Program sites and would be monitored and managed through the AMP/FOP.

Utilities

Significant impacts to existing utilities would not occur due to project design, implementation of SCMs, and implementation of the AMP/FOP.

Cumulative Impacts: Implementation of the Preferred Alternative, when considered in combination with other past, present, and reasonably foreseeable future actions identified in the Final EIS/EIR, will not result in significant cumulative impacts on the human environment. Many potential impacts are localized and are of relatively short duration. With the implementation of BMPs, SCMs, and mitigation measures described in the Final EIS/EIR, cumulative impacts on geological resources, water resources, biological resources, cultural resources, air quality, hazardous materials and wastes, and utilities resulting from implementation of the Preferred Alternative would be negligible.

Mitigation Measures: Projects comprising the Preferred Alternative will be designed to minimize impacts to the maximum extent practicable and will be implemented using SCMs, BMPs, and the AMP/FOP, as discussed under Agency Coordination and Consultation below. Special conservation and construction measures listed in the Final EIS/EIR will be implemented as part of the action as conditions of construction contracts for the projects. The DoN has identified specific avoidance, minimization, and mitigation measures for impacts to biological resources.

Unavoidable impacts to jurisdictional wetlands and other waters of the United States may require mitigation. The development of a mitigation and monitoring plan is a requirement of Clean Water Act Sections 401 and 404 permit applications for activities that would discharge dredge or fill materials into Waters of the United States. This plan will include details regarding site appropriateness, preparation (e.g., grading), recontouring, planting specifications (including seed mixes and plant palettes), and irrigation design (if determined necessary), as well as maintenance and monitoring procedures (including monitoring period and reporting).

Agency Coordination and Consultation: No cooperating agencies participated in the EIS/EIR process; however, MCI West-MCB Camp Pendleton completed consultation with the USFWS and NMFS under Section 7 of the Endangered Species Act and with Native American tribes and the California State Historic Preservation Office (SHPO) under Section 106 of the National Historic Preservation Act. In accordance with Section 401 and 404 of the Clean Water Act, coordination is also underway with the San Diego Regional Water Quality Control Board (RWQCB) and U.S. Army Corps of Engineers (USACE).

USFWS: Endangered Species Act Section 7 Consultation

MCI West-MCB Camp Pendleton submitted a Biological Assessment to the USFWS on September 15, 2015, and received a Final BO on August 15, 2016, concluding that the proposed action is not likely to jeopardize the continued existence of Federal threatened and endangered species and state special status species within the project area, including least Bell's vireo, southwestern willow flycatcher, and arroyo toad.

NMFS: Endangered Species Act Section 7 Consultation

MCI West-MCB Camp Pendleton submitted a Biological Assessment to NMFS on February 10, 2014, and received a Final BO on September 28, 2016, concluding that the proposed action is not likely to jeopardize the continued existence of the southern California steelhead.

SHPO/Native American Tribes: National Historic Preservation Act, Section 106 Consultation

MCI West-MCB Camp Pendleton submitted a consultation letter to the SHPO on March 19, 2012, requesting concurrence on the Finding of Effect for the proposed action, and received concurrence on September 19, 2013. MCI West-MCB Camp Pendleton consulted with the following Native American Tribes: La Jolla Band of Mission Indians; Pauma Band of Mission Indians; Pechanga Band of Luiseno Mission Indians; Rincon Band of Luiseno Indians; Pala Band of Mission Indians, Soboba Band of Luiseno Indians; San Luis Rey Band of Luiseno Indians; Juaneno Band of Mission Indians-Acjachemen Nation (Belardes); Juaneno Band of Mission Indians-Acjachemen Nation (Rivera/Romero); and Juaneno Band of Mission Indians-Acjachemen Nation (Reyes). The Rincon Band of Luiseno Indians requested to be kept informed on all updates for the project. The Pala Band of Mission Indians concurred with the methods for determining eligibility and treatment of historic properties and asked to be consulted if any new information or conclusions are reached.

USACE and San Diego RWQCB: Clean Water Act Sections 401 and 404

MCI West-MCB Camp Pendleton has submitted a Section 401 water quality certification application to the San Diego RWQCB and a 404 individual permit application to the USACE for the Preferred Alternative. To the maximum extent practicable, MCI West-MCB Camp Pendleton will avoid and minimize impacts to waters of the United States and will implement pre- and post-construction BMPs for sediment and erosion control. The proposed action will also comply with the MCI West-MCB Camp Pendleton Integrated Natural Resources Management Plan.

Conclusion: After careful consideration of the purpose and need for the proposed action, the analysis contained in the Final EIS/EIR, and comments received on the Draft and Final EIS/EIR from Federal, State, and local agencies, Native American Tribes, non-governmental organizations, and individual members of the public, I have decided to proceed with Alternative 1, the Final EIS/EIR Preferred Alternative, which entails improvements to existing facilities and construction of new facilities to efficiently meet the long-term water demands of MCB Camp Pendleton and FPUD, reduce FPUD's dependence on imported water, maintain watershed resources, and improve water supply reliability by managing the yield of the Lower SMR Basin.

Authority: 35 U.S.C. 207; 37 CFR part 404.

Dated: January 3, 2017.
A.M. Nichols,
Lieutenant Commander, Judge Advocate General's Corps, U.S. Navy, Federal Register Liaison Officer.

[FR Doc. 2017-00422 Filed 1-10-17; 8:45 am]

BILLING CODE 3810-FF-P